SOCIAL SECURITY ADMINISTRATION

[Docket No. SSA-2019-0053]

Privacy Act of 1974; Matching Program

AGENCY: Social Security Administration (SSA).

ACTION: Notice of a New Matching Program.

SUMMARY: In accordance with the provisions of the Privacy Act, as amended, this notice announces a new matching program with the Department of Veterans Affairs (VA), Veterans Benefits Administrarion (VBA).

DATES: The deadline to submit comments on the proposed matching program is 30 days from the date of publication of this notice in the Federal Register. The matching program will be applicable on September 6, 2020, or once a minimum of 30 days after publication of this notice has elapsed, whichever is later. The matching program will be in effect for a period of 18 months.

ADDRESSES: Interested parties may comment on this notice by either telefaxing to (410) 966-0869, writing to Matthew Ramsey, Executive Director, Office of Privacy and Disclosure, Office of the General Counsel, Social Security Administration, G-401 WHR, 6401 Security Boulevard, Baltimore, MD 21235-6401, or emailing Matthew.Ramsey@ssa.gov. All comments received will be available for public inspection by contacting Mr. Ramsey at this street address.

FOR FURTHER INFORMATION CONTACT: Interested parties may submit general questions about the matching program to Andrea Huseth, Division Director, Office of Privacy and Disclosure, Office of the General Counsel, Social Security Administration, G-401 WHR, 6401 Security Boulevard, Baltimore, MD 21235-6401, at telephone: (410) 966-5855, or send an email to Andrea.Huseth@ssa.gov.

SUPPLEMENTARY INFORMATION: None.

Matthew Ramsey,
Executive Director, Office of Privacy and Disclosure, Office of the General Counsel.

PARTICIPATING AGENCIES:

SSA and VA VBA.

AUTHORITY FOR CONDUCTING THE MATCHING PROGRAM:

The legal authority for this computer matching are sections 1144(a)(1) and (b)(1), and 1860D-14(a)(3) of the Social Security Act (42 U.S.C. 1320b-14(a)(1) and (b)(1), 1395w-114(a)(3)).

PURPOSE(S):

This matching program establishes the conditions under which the VA VBA will provide SSA with VA compensation and pension payment data. This disclosure will provide SSA with information necessary to verify an individual's self-certification of eligibility for the Medicare Prescription Drug (Medicare Part D) subsidy (Extra Help). It will also enable SSA to identify individuals who may qualify for Extra Help as part of the agency's Medicare outreach efforts.

CATEGORIES OF INDIVIDUALS:

The individuals whose information is involved in this matching program are those who are recorded in VA compensation and pension payment records and are matched with data in SSA's Medicare Database system of records. Such individuals have self-certified eligibility to SSA for the Medicare Prescription Drug (Medicare Part D) subsidy (Extra Help). In addition, SSA will use the information to identify individuals who may quality for Extra Help as part of the agency's Medicare outreach efforts.

CATEGORIES OF RECORDS:

VA's data file comes from compensation and pension payment data records. SSA matches VA data against Medicare Database (MDB) data.

SSA will conduct the match using the Social Security number, name, date of birth, and VA claim number on both the VA file and the MDB.

SYSTEM(S) OF RECORDS:

VA will provide compensation and pension payment data from its Systes of Records (SOR) entitled “Compensation, Pension, Education, and Vocational Rehabilitation and Employment Records-VA” (58VA21/22/28), republished with updated name at 74 FR 14865 (April 1, 2009) and last amended at 77 FR 42593 (July 19, 2012).

SSA will match the VA data with SSA SOR “Medicare Database File,” 60-0321, last fully published at 71 FR 42159 (July 25, 2006) and amended at 72 FR 69723 (December 10, 2007) and 83 FR 54969 (November 1, 2018).

[FR Doc. 2020-16144 Filed 7-24-20; 8:45 am]

BILLING CODE 4191-02-P